DEPARTMENT OF COMMERCE

International Trade Administration

[A-412-803]

Notice of Final Results of Antidumping Duty Changed Circumstances Review: Industrial Nitrocellulose from the United Kingdom

AGENCY: Import Administration, International Trade Administration, Department of Commerce.

ACTION: Notice of Final Results of Antidumping Duty Changed Circumstances Review.

SUMMARY: On October 16, 2003, the Department of Commerce (the Department) published a notice of preliminary results of its changed circumstances review of the antidumping duty order on industrial nitrocellulose (INC) from the United Kingdom in which we preliminarily determined that Troon Investments Limited (TIL) is the successor-in-interest to Imperial Chemical Industries, PLC (ICI).¹ See Notice of Preliminary Results of Antidumping Duty Changed Circumstances Review: Industrial Nitrocellulose from the United Kingdom, 68 FR 59584, 59585 (October 16, 2003) (Preliminary Results). We gave interested parties, TIL and Green Tree Chemical Technologies, Inc. (Green Tree), the sole U.S. producer of INC and the petitioner in this proceeding, the opportunity to comment on the Preliminary Results. We received no comments from either Green Tree or TIL on the Department's Preliminary Results. Therefore, the Department is adopting its preliminary finding that TIL is the successor-in-interest to ICI in these final results.

¹ Note: TIL purchased ICI's INC business on December 31, 2002.

EFFECTIVE DATE: December 9, 2003.

FOR FURTHER INFORMATION CONTACT: Michele Mire or Howard Smith, AD/CVD Enforcement, Office 4, Group II, Import Administration, International Trade Administration, U.S. Department of Commerce, 14th Street and Constitution Avenue, NW, Washington, DC 20230; telephone (202) 482-4711 and (202) 482-5193, respectively.

SUPPLEMENTARY INFORMATION:

Background

On July 10, 1990, the Department published in the Federal Register (55 FR 28270) the antidumping duty order on INC from the United Kingdom. On March 28, 2003, TIL requested that the Department conduct a changed circumstances review of the antidumping duty order on INC from the United Kingdom, claiming that it is the successor-in-interest to ICI, and, as such, it is entitled to receive the same antidumping treatment accorded to ICI. On April 11, 2003, Green Tree notified the Department that it opposed TIL's request to be considered the successor-in-interest to ICI. On July 18, 2003, and August 14, 2003, at the request of the Department, TIL submitted additional information and documentation pertaining to its changed circumstances request. Notwithstanding Green Tree's objection to finding TIL to be the successor-in-interest to ICI, record evidence indicates that, with the exception of the managing director of the INC business, TIL has made no material changes to the management, production facilities, suppliers of raw materials, or customers of ICI's former INC business. Further, while Green Tree expressed concern over a possible difference between the cost of capital for TIL and ICI, the record indicates that many of the significant factors that affect costs have not changed. Finally, although there has been a change in the legal entity performing U.S. selling functions under TIL, the record indicates that there have been no significant changes in the sales process or pricing of INC. See Preliminary Results at 59585. On October 16, 2003, the Department published its preliminary results in the Federal Register, finding TIL to be the successor-in-interest to ICI for purposes of determining antidumping liability. See Preliminary Results. We invited interested parties to comment on these findings. On October 31, 2003, and November 5, 2003, Green Tree and TIL, respectively, submitted letters in which they notified the Department that they would not file comments on the Preliminary Results.

Scope of Review

Imports covered by this review are shipments of INC from the United Kingdom. INC is a dry, white amorphous synthetic chemical with a nitrogen content between 10.8 and 12.2 percent, and is produced from the reaction of cellulose with nitric acid. INC is used as a film-

former in coatings, lacquers, furniture finishes, and printing inks. The scope of this order does not include explosive grade nitrocellulose, which has a nitrogen content of greater than 12.2 percent.

INC is currently classified under Harmonized Tariff Schedule of the United States (HTSUS) item number 3912.20.0000. While the HTSUS classification is provided for convenience and customs purposes, the written description remains dispositive as to the scope of the product coverage.

Final Results of Changed Circumstances Review

Because we received no comments from interested parties on the Preliminary Results, and for the reasons stated in the Preliminary Results, we find the record supports TIL to be the successor-in-interest to ICI for antidumping duty cash deposit purposes. We will instruct Customs and Border Protection to suspend shipments of subject merchandise made by TIL at ICI's cash deposit rate (i.e., 3.06 percent) effective upon publication of this notice. This cash deposit rate shall remain in effect until publication of the next administrative review in which TIL participates.

We are issuing and publishing this determination and notice in accordance with sections 751(b)(1) and 777(i)(1) of the Tariff Act of 1930, as amended, and section 351.216 of the Department's regulations.

Dated: December 1, 2003.
James S. Jochum,
Assistant Secretary for Import Administration.

[FR Doc. 03-30490 Filed 12-8-03; 8:45 am]

BILLING CODE 3510-DS-S